DEPARTMENT OF COMMERCE

National Oceanic and Atmospheric Administration

50 CFR Part 229

[Docket No. 150122067-5453-02]

RIN 0648-BE83

Taking of Marine Mammals Incidental to Commercial Fishing Operations; Atlantic Large Whale Take Reduction Plan Regulations

AGENCY: National Marine Fisheries Service (NMFS), National Oceanic and Atmospheric Administration (NOAA), Commerce.

ACTION: Final rule.

SUMMARY: NMFS issues this final rule to amend the regulations implementing the Atlantic Large Whale Take Reduction Plan. This action will change the minimum number of traps per trawl to allow fishing with a single trap in certain Massachusetts and Rhode Island state waters; and modifies the requirement to use one endline on trawls within certain areas in Massachusetts state waters. Also, this rule creates a ¼ mile buffer in waters surrounding certain islands in Maine to allow fishing with a single trap. In addition, this rule includes additional gear marking requirements for those waters allowing single traps as well as two new high use areas for humpback whales (Megaptera novaeangliae) and North Atlantic right whales (Eubalaena glacialis).

DATES: This rule is effective May 28, 2015, except for the amendment to § 229.32(b)(3), which is effective July 1, 2015, and the amendment to § 229.32(b)(1)(i) and (ii), which is effective September 1, 2015.

ADDRESSES: Copies of the supporting documents for this action, as well as the Atlantic Large Whale Take Reduction Team meeting summaries and supporting documents, may be obtained from the Plan Web site (http://www.greateratlantic.fisheries.noaa.gov/protected/whaletrp/index.html). Written comments regarding the burden hour estimates or other aspects of the collection of information requirements contained in this final rule can be submitted to Kimberly Damon-Randall, NMFS, Greater Atlantic Regional Fisheries Office, 55 Great Republic Dr, Gloucester, MA 10930 or Office of Information and Regulatory Affairs by email at OIRA_submissions@omb.eop.gov.

FOR FURTHER INFORMATION CONTACT: Kate Swails, NMFS Greater Atlantic Regional Fisheries Office, 978-282-8481, Kate.Swails@noaa.gov; or, Kristy Long, NMFS Office of Protected Resources, 206-526-4792, Kristy.Long@noaa.gov.

SUPPLEMENTARY INFORMATION:

Background

NMFS published an amendment to the Atlantic Large Whale Take Reduction Plan (Plan) on June 27, 2014 (79 FR 36586) to address large whale entanglement risks associated with vertical line (or buoy lines) from commercial trap/pot fisheries. This amendment included gear modifications, gear setting requirements, a seasonal closure (Massachusetts Restricted Area) and gear marking for both the trap/pot and the gillnet fisheries.

In consultation with the Atlantic Large Whale Take Reduction Team (Team), NMFS developed protocols for considering modifications or exemptions to the regulations implementing the Plan. Following these protocols, on August 18, 2014, the Massachusetts Division of Marine Fisheries (DMF) submitted a proposal to modify the Massachusetts Bay Restricted Area and to exempt several areas from the gear setting requirements to address safety and economic concerns raised by their industry members.

The DMF proposal adequately addressed the Team's established protocols and criteria for considering modifications or exemptions to the Plan's regulations, which enabled NMFS to consult with the Team on the DMF proposal. We decided to address the modifications to the Massachusetts Restricted Area and the exemption of the minimum number of traps per trawl requirements separately, beginning with the Massachusetts Restricted Area. After discussions with the Team, NMFS published an amendment to the Plan on December 12, 2014 (79 FR 73848) changing the timing and size of the Massachusetts Restricted Area.

Along with the DMF proposal, NMFS also received proposals from other state partners requesting certain waters be exempt from the minimum number of traps per trawl requirements due to safety concerns. The conservation members of the Team also submitted a proposal in an effort to offset this potential increase in vertical lines should NMFS approve the proposed state exemptions. NMFS convened the Team in January 2015 to discuss these proposals. At the conclusion of the January meeting, the Team, by near consensus, recommended that we amend the Plan as proposed by the states. The Team also recommended that the current gear marking scheme be updated to include unique marks for those fishing single traps in the proposed exempted areas and a unique mark for both gillnets and trap/pots fished in Jeffreys Ledge and Jordan Basin. The Team's recommendations form the basis for the action described below.

Changes to the Plan for Trap/Pot Gear

This action exempts Rhode Island state waters and portions of Massachusetts state waters from the minimum number of traps per trawl requirement and allow single traps to be fished in certain state waters (see Figures 1 and 2, respectively). This exemption is based on safety and financial concerns raised by the industry. In addition, in Rhode Island state waters and portions of Massachusetts state waters (particularly in Southern Massachusetts waters) the co-occurrence of fishing effort and whale distribution is minimal. According to DMF, along the Outer Cape there are dynamic tides and featureless substrate that dictate the use of single traps in this area. Massachusetts also has a student lobster permit that allows for permit holders to fish alone and with small boats. Single traps are used in this fishery and other inshore waters as a matter of safety.

In addition, those fishing in all Massachusetts state waters are required to have one endline for trawls less than or equal to three traps. The current requirement of one endline for trawls less than or equal to five traps remains in place in all other management areas. Larger trawls (i.e., ≥6 traps/pots) will not be required to have only one endline.

An exemption from the minimum number of traps per trawl requirement is also granted for a ¼ mile buffer in waters surrounding the following islands in Maine—Matinicus Island Group (Metinic, Small Green, Large Green, Seal, and Wooden Ball) and Isles of Shoals Island Group (Duck, Appledore, Cedar, and Smuttynose).

Boats within this ¼ mile buffer are allowed to continue fishing single traps rather than multiple trap trawls due to safety issues since these waters are generally less than 30 fathoms deep with rocky edges and boats fishing close to shore areas are usually small. A similar exemption for the inhabited islands of Monhegan, Matinicus, and Ragged Islands was established in the June 2014 rule. The islands in this current rule have the same bottom habitat as the previously exempted islands and many residents from many island communities fish around these islands. Similarly, the New Hampshire side of the Isles of Shoals group was also exempted from the minimum number of traps per trawl requirement in the June 2014 rule. Allowing the islands in the chain that fall on the Maine side of the border to have the same exemption would provide parity to fishermen using islands on both sides of the border. Maine Department of Marine Resources (ME DMR) estimates that the fishing effort within the proposed buffer areas is small (0.3% of total vertical lines in the Northeast), consists of around 20 fishermen and has peak use in the summer months. In addition, ME DMR is pursuing funding for aerial surveys that would determine the use by marine mammals of these coastal areas and document the gear density.

Changes to the Plan for Gear Marking

This action implements a gear marking scheme that builds off the current color combinations and the size and frequency of the current gear marking requirements. In an effort to learn if entanglements occur in these newly exempted areas, this action adds a unique gear mark to those single vertical lines fished in the exempted areas of Rhode Island, Massachusetts, and Matinicus Island Group, Maine. Also, this action proposes unique trap/pot and gillnet gear marking in two important high use areas for both humpback and right whales—Jeffreys Ledge (Figure 3) and Jordan Basin (Figure 4). The mark must equal 12-inches (30.5 cm) in length and buoy lines must be marked three times (top, middle, bottom) with the appropriate unique color combination for that area.

There will be a phased-in implementation of the new gear marking. Industry would have until July 1, 2015 to mark gear fished in the newly exempted areas and until September 1, 2015 to mark gear in Jeffreys Ledge and Jordan Basin areas.

Comments and Responses

NMFS published the proposed rule to amend the Plan in the Federal Register on March 19, 2015 (80 FR 14345). Upon its publication, NMFS issued a press email announcing the proposed rule; posted the proposed rule on the Plan Web site; and notified affected fishermen and interested parties via several NMFS email distribution outlets. The publication of the proposed rule was followed by a 30-day public comment period, which ended on April 20, 2015. NMFS received ten substantive comments via electronic submission. All comments received were thoroughly reviewed by NMFS. Most comments were in full support of the action or in partial support of the action with some concerns. One commenter was unsupportive of the rule. The comments addressed several topics including the need for enforcement of the measures and time required to implement new gear marking scheme. The comments received are summarized below, followed by NMFS's responses.

Adequacy of Co-Occurrence Model

Comment 1: Two commenters questioned the adequacy of the co-occurrence model and the data used to develop the model. The commenters stated that the model remains flawed due to lack of updated data, inappropriate spatial scaling of data, and assumptions about whale distribution. Despite this, the commenters recognized that NMFS uses the co-occurrence model as the basis for assessing relative risk and did not object to its use for analysis of the states' proposals. The commenters suggested that NMFS update the model with new data for both whale distribution and fishing effort, being sure to factor in recent management changes to the fishing industry.

Response 1: We believe the information in the model is accurate but does have some limitations. We previously provided model documentation describing the fishing effort data upon which the model relies, including a detailed discussion of the models limitations. Despite these limitations, the data are the best information available. We updated the sightings per unit effort (SPUE) data since the previous rule and plan on updating the model with more current fishing effort information as time allows for future rulemakings.

Gear Marking

Comment 2: Most commenters were in support of the new gear marking scheme, stating it is a step in the right direction to determine specific spatial resolution of the origin of entanglements. One commenter suggested the color scheme for single traps be `sunsetted' after five or more years if analyses reveal that inshore single trap/pot gear is not resulting in increased entanglement risk.

Response 2: We will continue to monitor the Plan via our Monitoring Strategy. This strategy includes both annual monitoring reports and a multi-year status summary intended to review the Plan's effectiveness and compliance over a 5-year timeframe. If analyses determine that the amended Plan is not achieving its goals, NMFS will review the multi-year status summary to evaluate the potential causes for not achieving the management objectives and consult with the Team on the development of appropriate actions to address any identified shortcomings of the Plan and its amendments.

Comment 3: One commenter suggested that NMFS consider allowing Massachusetts lobstermen to put the second color in the middle of the 12″ mark instead of having each mark equal 6″ as currently written.

Response 3: The two color marking scheme has been used in the Southeast fisheries since the beginning of the Plan. For consistency in marking schemes across regions we feel the current marking scheme of abutting colors is adequate. NMFS and the Team will evaluate any future gear marking scheme and make necessary adjustments through a future rulemaking if warranted.

Comment 4: One commenter disagreed with the proposed action to mark gear in Jeffreys Ledge and Jordan Basin due to their significance as `high use areas' stating it goes against the intent of the Team to evaluate management actions in terms of co-occurrence.

Response 4: We disagree. The Team chose to develop the June 2014 vertical line management measures using the co-occurrence model. The development of the gear marking scheme in `high use areas' was an outgrowth of discussions at the January 2015 meeting in response to exemption requests submitted by our state partners. These gear marking areas were a compromise for allowing state exemption requests to move forward and do not go against the intent of the Team when evaluating management options.

Comment 5: One commenter reluctantly agreed to the new gear marking scheme, stating that the Canadian lobster industry is not required to follow similar procedures. He stated that efforts need to be initiated to address trans-boundary aspects of this problem.

Response 5: Coordination between Canada and the U.S. concerning transboundary issues has been ongoing since the mid-1990s. We are continuing to work with the Canadian government to develop and implement protective measures for right whales in Canadian waters.

Comment 6: One commenter stated that gear marking requirements do nothing to reduce immediate entanglement risk. They recommended developing new gear marking requirements for all fishermen to mark lines on all traps and gillnets, including in all exempted areas beyond the COLREG line, which reflects a systematic, region-wide approach to maximize information on the location, fishery, and gear part of lines found on entangled whales.

Response 6: Although gear marking will not reduce entanglements by itself, it is expected to facilitate monitoring of entanglement rates and assist in designing future entanglement reduction measures in targeted areas deemed important by the Team. We feel that the proposed gear marking combined with the current gear marking scheme is sufficient and will help us target specific areas for future management if further measures are deemed necessary.

Implementation Date

Comment 7: Two commenters requested a delayed implementation date for the gear marking portion of the rule. They stated that having a start date of 30-days and 90-days from publication is operationally restrictive in the middle of a fishing year and instead suggested a start date of June 2016.

Response 7: The gear marking will go into effect 30-days from publication for those fishing singles in the proposed exempted inshore areas and 90-days from publication for those fishing in the high use areas of Jeffreys Ledge and Jordan Basin. NMFS feels this is timing is adequate, particularly because states have encouraged their inshore industry to mark their gear in anticipation of the final rule and NMFS has already provided a year for fishermen to comply with its gear marking scheme implemented in the June 2014 final rule.

Exemption Areas

Comment 8: One commenter noted that the Maine island exemption areas are not consistently identified in state and Federal rules. He also suggested that this rule be amended to clarify that islets and ledges adjacent to Matinicus Island but not within ¼ mile (Two Bush Island, No Man's Land, Ten Pound Island, Black Ledge and others) be included in the exemption request.

Response 8: We will work with our partners at Maine Department of Marine Resources to ensure that state and Federal rules mirror each other. We believe that, working with DMR, we have identified the appropriate islands and island groups for the ¼ mile island buffer provision and are not amending the exemption request.

Comment 9: One commenter stated that it is not feasible for a small vessel to fish ten trap trawls and should be allowed to fish 5 to 6 traps as is currently commonplace.

Response 9: This rule is in response to proposals from state partners to address safety concerns of small boats in inshore waters fishing singles. The proposals did not address those fishing 5 or 6 traps.

Comment 10: One commenter does not support the proposed rule. The commenter stated that the proposals requested state waters be exempt from the Plan; however, the proposals did not provide adequate measures to compensate for a potential for reduced protection of large whales as a result of these exemption requests. The commenter felt that the states' proposals should be deferred until each state had developed options that that would reduce the potential for entanglement risks (i.e, a trade-off).

Response 10: We disagree. The Team felt that there was little increase in overall entanglement risk with improved safety, economics and operational considerations for the smaller vessels. That said, some were concerned about the conservation implications of any increase in lines; therefore, the proposals triggered extensive discussions about the need for distinct and unique gear-markings to improve the NMFS ability to identify the likely source of entanglements if an increase in lines were to occur as a result of the proposals. This unique gear marking discussed at the January meeting (in particular the marking in two new `high use areas') is the approach the Team agreed was an appropriate “trade-off” for the potential for an increased risk. The Team identified the need for distinct and unique gear-markings to improve the NMFS ability to identify the likely source of entanglements if an increase in lines were to occur as a result of the proposals.

Enforcement and Monitoring

Comment 11: One commenter stated that if the combination of the sinking groundline and vertical line rule do not reduce serious injuries and mortalities then NMFS will be required to take further action.

Response 11: We agree and are committed to monitoring the Plan to ensure that it is effective. See response to comment 2.

Comment 12: One commenter stated that there is a need for strict enforcement of compliance with the rules and suggested non-regulatory measures expressed at the January meeting. The commenter suggested that the Plan's provisions require robust monitoring and enforcement efforts.

Response 12: We agree that the efficacy of the Plan depends on strong monitoring and enforcement of the regulations. NMFS works closely with the U.S. Coast Guard, NOAA Office of Law Enforcement and state partners through Joint Enforcement Agreements to enforce the regulations. See response to comment 2.

NEPA/ESA Analysis

Comment 13: One commenter was concerned with the analysis the Agency conducted for this action under the Endangered Species Act (ESA) and National Environmental Policy Act (NEPA) saying that it is not sufficient. The commenter stressed that changes to the Plan require a reinitiation of the ESA Section 7 consultation and the Draft EA omitted several factors not considered in the previous Environmental Impact Statement.

Response 13: We believe that the changes to the Plan being made by this rule do not constitute a modification to the operation of the Plan that would have an effect on ESA-listed species or critical habitat that was not considered in the previous consultations. Further, we completed an ESA Section 7 consultation on the proposed modifications to the regulations implementing the Plan. We consulted previously on the Plan, resulting in our issuance of a biological opinion (Opinion) on July 15, 1997. Five subsequent informal consultations have been completed in 2004, 2008, and 2014, when we changed several measures to the Plan. Based on NMFS' analysis of the re-initiation triggers, we have determined that these proposed modifications to the Plan will not cause any effects that were not already considered in the Opinion and subsequent informal consultations. None of the other reinitiation triggers have been met; therefore, reinitiation of consultation is not necessary. The conclusions reached in the Opinion remain valid, and no further consultation is necessary at this time. Should activities under this action change or new information become available that changes the basis for this determination, then consultation will be reinitiated. Therefore, the measures in this rule do not trigger reinitiation of consultation. In addition, while we believe the analysis conducted for this action is sufficient under NEPA, we have updated sections of the Final EA to respond to the commenter's concerns.

Classification

The Office of Management and Budget (OMB) has determined that this action is not significant for the purposes of Executive Order 12866.

This action contains collection of information requirements subject to the Paperwork Reduction Act (PRA), specifically, the marking of fishing gear. The collection of information requirement was approved by OMB under control number (0648-0364). Public comment was sought regarding whether this proposed collection of information is necessary for the proper performance and function of the agency, including: the practical utility of the information; the accuracy of the burden estimate; the opportunities to enhance the quality, utility, and clarity of the information to be collected; and the ways to minimize the burden of the collection of information, including the use of automated collection techniques or other forms of information technology. Send comments regarding this burden estimate, or any other aspect of this data collection, including suggestions for reducing the burden, to NMFS (see ADDRESSEES) and by email to OIRA_Submission@omb.eop.gov, or fax to (202) 395-7285.

This revision to the collection of information requirement applies to a total of 399 vessels. The estimated number of vessels affected by the overall gear marking provisions in the Plan is 4,008. The estimated number of those vessels affected only by the proposed amendment is 399. Model vessel types were developed for gillnet fisheries, lobster trap/pot fisheries, and other trap/pot fisheries. Total burden hours for all affected vessels in the Plan are 35,571 hours over three years or 11,857 hours per year. Total cost burden for all affected vessels in the Plan is $24,758 over three years or $8,253 per year. The total cost burden for those vessels affected by the proposed amendment is $3,450 over three years or $1,150 per year. For more information, please see the PRA approval associated with this rulemaking.

Notwithstanding any other provision of the law, no person is required to respond to, nor shall any person be subject to a penalty for failure to comply with, a collection of information subject to the requirements of the PRA, unless that collection of information displays a currently valid OMB Control Number.

As required by the Regulatory Flexibility Act, NMFS prepared a final regulatory flexibility analysis (FRFA) for this final rule.

A description of this action, its objectives, and the legal basis for this action can be found in the Summary section and earlier in the Supplementary Information section of this final rule, and are not repeated here. This rule does not duplicate, overlap, or conflict with any other federal rules.

The small entities affected by this rule are commercial gillnet and trap/pot fishermen. The geographic range of the action is the Northeast Atlantic waters. By changing the minimum number of traps per trawl requirement to allow single traps in the lobster trap/pot fishery there are potentially 182 vessels that would be affected. Additionally, in the other trap/pot fisheries, there are potentially 123 vessels that would be affected. All vessels are assumed to be small entities within the meaning of the Regulatory Flexibility Act.

Alternatives were evaluated using model vessels, each of which represents a group of vessels that share similar operating characteristics and would face similar requirements under a given regulatory alternative. Both an upper and lower bound of annual economic savings for lobster and other trap/pot were analyzed. A summary of analysis describing the potential range of savings resulting from allowing singles to be fished follows:

1. NMFS considered a “no action” or status quo alternative (Alternative 1) that would result in no changes to the current measures under the Plan and, as such, would result in no additional economic effects on the fishing industry.

2. Alternative 2, the preferred alternative, will modify the Plan by allowing the use of single traps in Rhode Island state waters, in most Massachusetts state waters, and some waters around Maine Islands. This change will constitute an exemption to the minimum two-trap-per-trawl requirement specified for these areas under the 2014 vertical line rulemaking. Those who until now have fished single traps in these areas will avoid the costs associated with converting their gear from single traps to double traps, and would also avoid other possible costs, such as a loss in revenue due to a reduction in catch. The action also revises gear marking requirements that would apply to vessels fishing in waters that would be exempt from trawling requirements, as well as to vessels fishing in two additional regions (Jordan Basin and Jeffreys Ledge). The changes will require the use of colors that will differentiate gear set in these areas from gear fished in other waters. NMFS has determined, however, that the marking requirements will introduce minimal additional burden for the affected vessels; thus, a substantial increase in compliance costs is unlikely. The rule does not include any other reporting, recordkeeping, or compliance requirements.

Overall, the economic impacts of the preferred alternative results in a vessel cost savings that will equal or range from $163,200 to $345,700 for lobster trap/pot vessels and $257,00 to $512,500 for other trap/pot vessels when compared to the no action alternative, resulting in a largely positive impact.

NMFS has determined that this action is consistent to the maximum extent practicable with the approved coastal management programs of Maine, Massachusetts, New Hampshire, and Rhode Island. This determination was submitted for review by the responsible state agencies under section 307 of the Coastal Zone Management Act. The following state agreed with NMFS's determination: New Hampshire. Maine, Massachusetts, and Rhode Island did not respond; therefore, consistency is inferred.

This final rule contains policies with federalism implications as that term is defined in Executive Order 13132. Accordingly, the Assistant Secretary for Legislative and Intergovernmental Affairs provided notice of the proposed action to the appropriate official(s) of affected state, local, and/or tribal governments. No concerns were raised by the states contacted; hence, NMFS will infer that these states concur with the finding that the regulations for amending the Plan were consistent with fundamental federalism principles and federalism policymaking criteria.

An informal consultation under the ESA for this final rule to modify the Plan was concluded on March 30, 2015. As a result of the informal consultation, the Regional Administrator determined that the measures to modify the Plan do not meet the triggers for reinitiation of consultation. NMFS completed an ESA Section 7 consultation on the implementation of the Plan on July 15, 1997, and concluded that the action was not likely to adversely affect any ESA-listed species under NMFS jurisdiction. Two subsequent consultations were completed in 2004 and 2008, when NMFS changed some of the measures in the Plan. An informal consultation on the most recent vertical line rule was completed on August 16, 2013. NMFS, as both the action agency and the consulting agency, reviewed the changes and determined that the measures as revised through rulemaking would not affect ESA-listed species under NMFS jurisdiction in a manner that had not been previously considered.

The Assistant Administrator finds good cause under 5 U.S.C. 553(d)(3) to waive the 30-day delay in effectiveness. The contents of this action serve to remove existing commercial fishing restrictions and to prevent negative safety impacts from otherwise occurring as the current minimum trap per trawl requirements would have been effective beginning June 1, 2015. Delaying the effectiveness of this rule is contrary to the public interest, because any delay will prevent the removal of the ban on single traps in certain state waters implemented by this rule, thereby increasing safety risk, and providing no additional meaningful benefit to large whales. Accordingly, the 30-day delay in effectiveness is both unnecessary and contrary to the public interest, and as such, portions of this rule will become effective immediately.

BILLING CODE 3510-22-P

BILLING CODE 3510-22-C

List of Subjects in 50 CFR Part 229

Administrative practice and procedure, Confidential business information, Fisheries, Marine mammals, Reporting and recordkeeping requirements.

Dated: May 22, 2015.
Samuel D. Rauch, III,
Deputy Assistant Administrator for Regulatory Programs, National Marine Fisheries Service.

For the reasons set out in the preamble, 50 CFR part 229 is amended as follows:

PART 229—AUTHORIZATION FOR COMMERCIAL FISHERIES UNDER THE MARINE MAMMAL PROTECTION ACT OF 1972

1. The authority citation for 50 CFR part 229 continues to read as follows:

Authority: 16 U.S.C. 1361 et seq.; § 229.32(f) also issued under 16 U.S.C. 1531 et seq.

2. In § 229.32, paragraphs (a)(3), (a)(6), (b), and (c)(2) are revised to read as follows:

§ 229.32 Atlantic large whale take reduction plan regulations.

* * * * *

(a) * * *

(3) Exempted waters. (i) The regulations in this section do not apply to waters landward of the 72 COLREGS demarcation lines (International Regulations for Preventing Collisions at Sea, 1972), as depicted or noted on nautical charts published by the National Oceanic and Atmospheric Administration (Coast Charts 1:80,000 scale), and as described in 33 CFR part 80 with the exception of the COLREGS lines for Casco Bay (Maine), Portsmouth Harbor (New Hampshire), Gardiners Bay and Long Island Sound (New York), and the state of Massachusetts.

(ii) Other exempted waters.

Maine

The regulations in this section do not apply to waters landward of a line connecting the following points (Quoddy Narrows/US-Canada border to Odiornes Pt., Portsmouth, New Hampshire):

44°49.67′ N. lat., 66°57.77′ W. long. (R N “2”, Quoddy Narrows)

44°48.64′ N. lat., 66°56.43′ W. long. (G “1” Whistle, West Quoddy Head)

44°47.36′ N. lat., 66°59.25′ W. long. (R N “2”, Morton Ledge)

44°45.51′ N. lat., 67°02.87′ W. long. (R “28M” Whistle, Baileys Mistake)

44°37.70′ N. lat., 67°09.75′ W. long. (Obstruction, Southeast of Cutler)

44°27.77′ N. lat., 67°32.86′ W. long. (Freeman Rock, East of Great Wass Island)

44°25.74′ N. lat., 67°38.39′ W. long. (R “2SR” Bell, Seahorse Rock, West of Great Wass Island)

44°21.66′ N. lat., 67°51.78′ W. long. (R N “2”, Petit Manan Island)

44°19.08′ N. lat., 68°02.05′ W. long. (R “2S” Bell, Schoodic Island)

44°13.55′ N. lat., 68°10.71′ W. long. (R “8BI” Whistle, Baker Island)

44°08.36′ N. lat., 68°14.75′ W. long. (Southern Point, Great Duck Island)

43°59.36′ N. lat., 68°37.95′ W. long. (R “2” Bell, Roaring Bull Ledge, Isle Au Haut)

43°59.83′ N. lat., 68°50.06′ W. long. (R “2A” Bell, Old Horse Ledge)

43°56.72′ N. lat., 69°04.89′ W. long. (G “5TB” Bell, Two Bush Channel)

43°50.28′ N. lat., 69°18.86′ W. long. (R “2 OM” Whistle, Old Man Ledge)

43°48.96′ N. lat., 69°31.15′ W. long. (GR C “PL”, Pemaquid Ledge)

43°43.64′ N. lat., 69°37.58′ W. long. (R “2BR” Bell, Bantam Rock)

43°41.44′ N. lat., 69°45.27′ W. long. (R “20ML” Bell, Mile Ledge)

43°36.04′ N. lat., 70°03.98′ W. long. (RG N “BS”, Bulwark Shoal)

43°31.94′ N. lat., 70°08.68′ W. long. (G “1”, East Hue and Cry)

43°27.63′ N. lat., 70°17.48′ W. long. (RW “WI” Whistle, Wood Island)

43°20.23′ N. lat., 70°23.64′ W. long. (RW “CP” Whistle, Cape Porpoise)

43°04.06′ N. lat., 70°36.70′ W. long. (R N “2MR”, Murray Rock)

43°02.93′ N. lat., 70°41.47′ W. long. (R “2KR” Whistle, Kittery Point)

43°02.55′ N. lat., 70°43.33′ W. long. (Odiornes Pt., Portsmouth, New Hampshire)

New Hampshire

New Hampshire state waters are exempt from the minimum number of traps per trawl requirement in paragraph (c)(2)(iii) of this section. Harbor waters landward of the following lines are exempt from all the regulations in this section.

A line from 42°53.691′ N. lat., 70°48.516′ W. long. to 42°53.516′ N. lat., 70°48.748′ W. long. (Hampton Harbor)

A line from 42°59.986′ N. lat., 70°44.654′ W. long. to 42°59.956′ N., 70°44.737′ W. long. (Rye Harbor)

Rhode Island

Rhode Island state waters are exempt from the minimum number of traps per trawl requirement in paragraph (c)(2)(iii) of this section. Harbor waters landward of the following lines are exempt from all the regulations in this section.

A line from 41°22.441′ N. lat., 71°30.781′ W. long. to 41°22.447′ N. lat., 71°30.893′ W. long. (Pt. Judith Pond Inlet)

A line from 41°21.310′ N. lat., 71°38.300′ W. long. to 41°21.300′ N. lat., 71°38.330′ W. long. (Ninigret Pond Inlet)

A line from 41°19.875′ N. lat., 71°43.061′ W. long. to 41°19.879′ N. lat., 71°43.115′ W. long. (Quonochontaug Pond Inlet)

A line from 41°19.660′ N. lat., 71°45.750′ W. long. to 41°19.660′ N. lat., 71°45.780′ W. long. (Weekapaug Pond Inlet)

A line from 41°26.550′ N. lat., 71°26.400′ W. long. to 41°26.500′ N. lat, 71°26.505′ W. long. (Pettaquamscutt Inlet)

New York

The regulations in this section do not apply to waters landward of a line that follows the territorial sea baseline through Block Island Sound (Watch Hill Point, RI, to Montauk Point, NY).

Massachusetts

The regulations in this section do not apply to waters landward of the first bridge over any embayment, harbor, or inlet in Massachusetts. The following Massachusetts state waters are exempt from the minimum number of traps per trawl requirement in paragraph (c)(2)(iii) of this section:

From the New Hampshire border to 70° W longitude south of Cape Cod, waters in EEZ Nearshore Management Area 1 and the Outer Cape Lobster Management Area (as defined in the American Lobster Fishery regulations under § 697.18 of this title), from the shoreline to 3 nautical miles from shore, and including waters of Cape Cod Bay southeast of a straight line connecting 41° 55.8′ N lat., 70°8.4′ W long. and 41°47.2′ N lat., 70°19.5′ W long.

From 70° W longitude south of Cape Cod to the Rhode Island border, all Massachusetts state waters in EEZ Nearshore Management Area 2 and the Outer Cape Lobster Management Area (as defined in the American Lobster Fishery regulations under § 697.18 of this title), including federal waters of Nantucket Sound west of 70° W longitude.

South Carolina

The regulations in this section do not apply to waters landward of a line connecting the following points from 32°34.717′ N. lat., 80°08.565′ W. long. to 32°34.686′ N. lat., 80°08.642′ W. long. (Captain Sams Inlet)

* * * * *

(6) Island buffer. Those fishing in waters within ¼ nautical miles of the following Maine islands are exempt from the minimum number of traps per trawl requirement in paragraph (c)(2)(iii) of this section: Monhegan Island, Matinicus Island Group (Metinic Island, Small Green Island, Large Green Island, Seal Island, Wooden Ball Island, Matinicus Island, Ragged Island) and Isles of Shoals Island Group (Duck Island, Appledore Island, Cedar Island, Smuttynose Island).

(b) Gear marking requirements—(1) Specified areas. The following areas are specified for gear marking purposes: Northern Inshore State Trap/Pot Waters, Cape Cod Bay Restricted Area, Massachusetts Restricted Area, Stellwagen Bank/Jeffreys Ledge Restricted Area, Northern Nearshore Trap/Pot Waters Area, Great South Channel Restricted Trap/Pot Area, Great South Channel Restricted Gillnet Area, Great South Channel Sliver Restricted Area, Southern Nearshore Trap/Pot Waters Area, Offshore Trap/Pot Waters Area, Other Northeast Gillnet Waters Area, Mid/South Atlantic Gillnet Waters Area, Other Southeast Gillnet Waters Area, Southeast U.S. Restricted Areas, and Southeast U.S. Monitoring Area.

(i) Jordan Basin. The Jordan Basin Restricted Area is bounded by the following points connected by straight lines in the order listed:

Point | N. Lat. | W. Long.
JBRA1 | 43°15′ | 68°50′
JBRA2 | 43°35′ | 68°20′
JBRA3 | 43°25′ | 68°05′
JBRA4 | 43°05′ | 68°20′
JBRA5 | 43°05′ | 68°35′
JBRA1 | 43°15′ | 68°50′

(ii) Jeffreys Ledge Restricted Area—The Jeffreys Ledge Restricted Area is bounded by the following points connected by a straight line in the order listed:

Point | N. Lat. | W. Long.
JLRA1 | 43°15′ | 70°25′
JLRA2 | 43°15′ | 70°00′
JLRA3 | 42°50′ | 70°00′
JLRA4 | 42°50′ | 70°25′
JLRA1 | 43°15′ | 70°25′

(2) Markings. All specified gear in specified areas must be marked with the color code shown in paragraph (b)(3) of this section. The color of the color code must be permanently marked on or along the line or lines specified below under paragraphs (b)(2)(i) and (ii) of this section. Each color mark of the color codes must be clearly visible when the gear is hauled or removed from the water, including if the color of the rope is the same as or similar to the respective color code. The rope must be marked at least three times (top, middle, bottom) and each mark must total 12-inch (30.5 cm) in length. If the mark consists of two colors then each color mark may be 6-inch (15.25 cm) for a total mark of 12-inch (30.5 cm). In marking or affixing the color code, the line may be dyed, painted, or marked with thin colored whipping line, thin colored plastic, or heat-shrink tubing, or other material; or a thin line may be woven into or through the line; or the line may be marked as approved in writing by the Assistant Administrator. A brochure illustrating the techniques for marking gear is available from the Regional Administrator, NMFS, Greater Atlantic Region upon request.

(i) Buoy line markings. All buoy lines must be marked as stated above. Shark gillnet gear in the Southeast U.S. Restricted Area S, Southeast U.S. Monitoring Area and Other Southeast Gillnet Waters, greater than 4 feet (1.22 m) long must be marked within 2 feet (0.6 m) of the top of the buoy line (closest to the surface), midway along the length of the buoy line, and within 2 feet (0.6 m) of the bottom of the buoy line.

(ii) Net panel markings. Shark gillnet gear net panels in the Southeast U.S. Restricted Area S, Southeast U.S. Monitoring Area and Other Southeast Gillnet Waters is required to be marked. The net panel must be marked along both the floatline and the leadline at least once every 100 yards (91.4 m).

(iii) Surface buoy markings. Trap/pot and gillnet gear regulated under this section must mark all surface buoys to identify the vessel or fishery with one of the following: The owner's motorboat registration number, the owner's U.S. vessel documentation number, the Federal commercial fishing permit number, or whatever positive identification marking is required by the vessel's home-port state. When marking of surface buoys is not already required by state or Federal regulations, the letters and numbers used to mark the gear to identify the vessel or fishery must be at least 1 inch (2.5 cm) in height in block letters or arabic numbers in a color that contrasts with the background color of the buoy. A brochure illustrating the techniques for marking gear is available from the Regional Administrator, NMFS, Greater Atlantic Region upon request.

(3) Color code. Gear must be marked with the appropriate colors to designate gear types and areas as follows:

Color Code Scheme
Plan management area | Color
Trap/Pot Gear
Massachusetts Restricted Area | Red.
Northern Nearshore | Red.
Northern Inshore State | Red.
Stellwagen Bank/Jeffreys Ledge Restricted Area | Red.
Great South Channel Restricted Area overlapping with LMA 2 and/or Outer Cape | Red.
Exempt RI state waters (single traps) | Red and Blue.
Exempt MA state waters in LMA 1 (single traps) | Red and White.
Exempt MA state waters in LMA 2 (single traps) | Red and Black.
Exempt MA state waters in Outer Cape (single traps) | Red and Yellow.
Isles of Shoals, ME (single traps) | Red and Orange.
Southern Nearshore | Orange.
Southeast Restricted Area North (State Waters) | Blue and Orange.
Southeast Restricted Area North (Federal Waters) | Green and Orange.
Offshore | Black.
Great South Channel Restricted Area overlapping with LMA 2/3 and/or LMA 3 | Black.
Jordan Basin | Black and Purple (LMA 3); Red and and Purple (LMA 1).
Jeffreys Ledge | Red and Green.
Gillnet excluding shark gillnet
Cape Cod Bay Restricted Area | Green.
Stellwagen Bank/Jeffreys Ledge Restricted Area | Green.
Great South Channel Restricted Area | Green.
Great South Channel Restricted Sliver Area | Green.
Other Northeast Gillnet Waters | Green.
Jordan Basin | Green and Yellow.
Jeffreys Ledge | Green and Black.
Mid/South Atlantic Gillnet Waters | Blue.
Southeast US Restricted Area South | Yellow.
Other Southeast Gillnet Waters | Yellow.
Shark Gillnet (with webbing of 5″ or greater)
Southeast US Restricted Area South | Green and Blue.
Southeast Monitoring Area | Green and Blue.
Other Southeast Waters | Green and Blue.

* * * * *

(c) * * *

(2) Area specific gear requirements. Trap/pot gear must be set according to the requirements outlined below and in the table in paragraph (c)(2)(iii) of this section.

(i) Single traps and multiple-trap trawls. All traps must be set according to the configuration outlined in the Table (c)(2)(iii) of this section. Trawls up to and including 5 or fewer traps must only have one buoy line unless specified otherwise in Table (c)(2)(iii) of this section.

(ii) Buoy line weak links. All buoys, flotation devices and/or weights (except traps/pots, anchors, and leadline woven into the buoy line), such as surface buoys, high flyers, sub-surface buoys, toggles, window weights, etc., must be attached to the buoy line with a weak link placed as close to each individual buoy, flotation device and/or weight as operationally feasible and that meets the following specifications:

(A) The breaking strength of the weak links must not exceed the breaking strength listed in paragraph (c)(2)(iii) of this section for a specified management area.

(B) The weak link must be chosen from the following list approved by NMFS: swivels, plastic weak links, rope of appropriate breaking strength, hog rings, rope stapled to a buoy stick, or other materials or devices approved in writing by the Assistant Administrator. A brochure illustrating the techniques for making weak links is available from the Regional Administrator, NMFS, Greater Atlantic Region upon request.

(C) Weak links must break cleanly leaving behind the bitter end of the line. The bitter end of the line must be free of any knots when the weak link breaks. Splices are not considered to be knots for the purposes of this provision.

(iii) Table of Area Specific Gear Requirements

Location | Mgmt area | Minimum number traps/trawl | Weak link strength
ME State and Pocket Waters ¹ | Northern Inshore State | 2 (1 endline) | ≤600 lbs.
ME Zones A-G (3-6 miles) ¹ | Northern Nearshore | 3 (1 endline) | ≤600 lbs.
ME Zones A-C (6-12 miles) ¹ | Northern Nearshore | 5 (1 endline) | ≤600 lbs.
ME Zones D-G (6-12 miles) ¹ | Northern Nearshore | 10 | ≤600 lbs.
ME Zones A-E (12+ miles) | Northern Nearshore and Offshore | 15 | ≤600 lbs (≤1500 lbs in offshore, 2,000 lbs if red crab trap/pot).
ME Zones F-G (12+ miles) | Northern Nearshore and Offshore | 15 (Mar 1-Oct 31) 20 (Nov 1-Feb 28/29) | ≤600 lbs (≤1500 lbs in offshore, 2,000 lbs if red crab trap/pot).
MA State Waters ² | Northern Inshore State and Massachusetts Restricted Area | No minimum number of traps per trawl. Trawls up to and including 3 or fewer traps must only have one buoy line | ≤600 lbs.
Other MA State Waters | Northern Inshore State and Massachusetts Restricted Area | 2 (1 endline) Trawls up to and including 3 or fewer traps must only have one buoy line | ≤600 lbs.
NH State Waters | Northern Inshore State | No minimum trap/trawl | ≤600 lbs.
LMA 1 (3-12 miles) | Northern Nearshore and Massachusetts Restricted Area and Stellwagen Bank/Jeffreys Ledge Restricted Area | 10 | ≤600 lbs.
LMA 1 (12+ miles) | Northern Nearshore | 20 | ≤600 lbs.
LMA1/OC Overlap (0-3 miles) | Northern Inshore State and Massachusetts Restricted Area | No minimum number of traps per trawl | ≤600 lbs.
OC (0-3 miles) | Northern Inshore State and Massachusetts Restricted Area | No minimum number of traps per trawl | ≤600 lbs.
OC (3-12 miles) | Northern Nearshore and Massachusetts Restricted Area | 10 | ≤600 lbs.
OC (12+ miles) | Northern Nearshore and Great South Channel Restricted Area | 20 | ≤600 lbs.
RI State Waters | Northern Inshore State | No minimum number of traps per trawl. | ≤600 lbs.
LMA 2 (3-12 miles) | Northern Nearshore | 10 | ≤600 lbs.
LMA 2 (12+ miles) | Northern Nearshore and Great South Channel Restricted Area | 20 | ≤600 lbs.
LMA 2/3 Overlap (12+ miles) | Offshore and Great South Channel Restricted Area | 20 | ≤1500 lbs (2,000 lbs if red crab trap/pot).
LMA 3 (12+ miles) | Offshore waters North of 40° and Great South Channel Restricted Area | 20 | ≤1500 lbs (2,000 lbs if red crab trap/pot).
LMA 4,5,6 | Southern Nearshore |  | ≤600 lbs.
FL State Waters | Southeast US Restricted Area North ⁱ | 1 | ≤200 lbs.
GA State Waters | Southeast US Restricted Area North ³ | 1 | ≤600 lbs.
SC State Waters | Southeast US Restricted Area North ³ | 1 | ≤600 lbs.
Federal Waters off FL, GA, SC | Southeast US Restricted Area North ³ | 1 | ≤600 lbs.
¹ The pocket waters and 6-mile line as defined in paragraphs (a)(2)(ii)-(a)(2)(iii) of this section.
² MA State waters as defined as paragraph (a)(3)(iii) of this section.
³ See § 229.32(f)(1) for description of area.

* * * * *

[FR Doc. 2015-12869 Filed 5-27-15; 8:45 am]

BILLING CODE 3510-22-P